COMMISSION ON CIVIL RIGHTS

Notice of Public Meeting of the Georgia Advisory Committee

AGENCY: U.S. Commission on Civil Rights.

ACTION: Notice of meeting.

SUMMARY: Notice is hereby given, pursuant to the provisions of the rules and regulations of the U.S. Commission on Civil Rights (Commission) and the Federal Advisory Committee Act that the Georgia (State) Advisory Committee will hold a meeting on Tuesday, February 27, 2018 for hearing testimony regarding the issue of the Olmstead Decision, Civil Rights of Persons with Disabilities in Georgia.

DATES: The meeting will be held on Tuesday, February 27, 2019 at 9:30 a.m.

ADDRESSES: The Shepherd Center, 2020 Peachtree Road, Atlanta, Georgia 30309.

FOR FURTHER INFORMATION CONTACT: Jeff Hinton, DFO, at jhinton@usccr.gov or 404-562-7706.

SUPPLEMENTARY INFORMATION: This meeting is open to the public, and will take place at The Shepherd Center, 2020 Peachtree Road, Atlanta, Georgia 30309. In addition, members of the public may submit written comments; the comments must be received in the regional office within 30 days following the meeting. Written comments may be mailed to the Southern Regional Office, U.S. Commission on Civil Rights, 61 Forsyth St., Suite 16T126, Atlanta, Georgia 30303. They may also be faxed to the Commission at (404) 562-7005 or emailed to Jeff Hinton at jhinton@usccr.gov. Persons who desire additional information may contact the USCCR, Southern Regional Office at (404) 562-7000.

Records generated from this meeting may be inspected and reproduced at the Southern Regional Office, as they become available, both before and after the meeting. Records of the meeting will be available via www.facadatabase.gov under the Commission on Civil Rights, Georgia Advisory Committee link. Persons interested in the work of this Committee are directed to the Commission's website, http://www.usccr.gov, or may contact the Southern Regional Office at the above email or street address.

Agenda

9:30 a.m. Introductions

9:45-10:55 a.m. Panel 1

11:00-12:05 a.m. Panel 2

12:10-1:15 p.m. Panel 3

1:15 p.m.-2:00 p.m. Lunch Break

2:00-3:30 p.m. Panel 4

3:35-4:30 p.m. Panel 5

4:35-4:55 p.m. Public Comment and Community Testimonials

4:55 p.m. Adjourn

Dated: January 31, 2018.
David Mussatt,
Supervisory Chief, Regional Programs Unit.

[FR Doc. 2018-02262 Filed 2-5-18; 8:45 am]

BILLING CODE P